DEPARTMENT OF AGRICULTURE

Forest Service

Siskiyou Resource Advisory Committee

AGENCY: Forest Service, USDA.

ACTION: Notice of meeting.

SUMMARY: The Siskiyou (OR) Resource Advisory Committee (RAC) will meet in Harbor, Oregon. The committee is authorized under the Secure Rural Schools and Community Self-Determination Act (the Act) and operates in compliance with the Federal Advisory Committee Act. The purpose of the committee is to improve collaborative relationships and to provide advice and recommendations to the Forest Service concerning projects and funding consistent with the Title II of the Act. RAC information can be found at the following website: https://cloudapps-usda-gov.secure.force.com/FSSRS/RAC_Page?id=001t0000002Jcv6AAC.

DATES: The meeting will be held on April 25, 2018, 9:30 a.m.

All RAC meetings are subject to cancellation. For status of the meeting prior to attendance, please contact the person listed under FOR FURTHER INFORMATION CONTACT.

ADDRESSES: The meeting will be held at the Harbor Water Public Utilities District, 98069 West Benham Lane, Harbor, Oregon.

Written comments may be submitted as described under Supplementary Information. All comments, including names and addresses when provided, are placed in the record and are available for public inspection and copying. The public may inspect comments received at 3040 Biddle Road, Medford, Oregon. Please call ahead to (541) 618-2200 to facilitate entry into the building.

FOR FURTHER INFORMATION CONTACT: Virginia Gibbons, Public Affairs Officer, by phone at (541) 618-2113 or via email at vgibbons@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Review projects previously authorized under Title II of the Act; and

2. Review and make proposed fee changes for fee sites on the Rogue River-Siskiyou National Forest.

The meeting is open to the public. The agenda will include time for people to make oral statements of three minutes or less. Individuals wishing to make an oral statement should request in writing by April 11, 2018, to be scheduled on the agenda.

Anyone who would like to bring related matters to the attention of the committee may file written statements with the committee staff before the meeting. Written comments and requests for time to make oral comments must be sent to Virginia Gibbons, Public Affairs Officer, Rogue River-Siskiyou National Forest, 3040 Biddle Road, Medford, Oregon 97504; by phone at (541) 618-2113, by email at Rogue_River-Siskiyou_RecFee@fs.fed.us, or via facsimile at (541) 618-2400.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: March 14, 2018.
Chris French,
Associate Deputy Chief, National Forest System.

[FR Doc. 2018-06682 Filed 4-2-18; 8:45 am]

BILLING CODE 3415-11-P